DEPARTMENT OF DEFENSE

Defense Acquisition Regulations System

[Docket No. DARS-2018-0008; OMB 0704-0574]

Information Collection Requirement; Defense Federal Acquisition Regulation Supplement; Submission for OMB Review; Comment Request

AGENCY: Defense Acquisition Regulation System, Department of Defense (DoD).

ACTION: Notice.

SUMMARY: The Defense Acquisition Regulations System has submitted to OMB for clearance, the following proposal for collection of information under the provisions of the Paperwork Reduction Act.

DATES: Consideration will be given to all comments received by July 18, 2019.

Title, Associated Forms, and OMB Number: Defense Federal Acquisition Regulation Supplement (DFARS) Part 215; Only One Offer and Related Clauses at 252.215; OMB Control Number 0704-0574.

Type of Request: New Collection.

Number of Respondents: 2,079.

Responses per Respondent: Approximately 1.73.

Annual Responses: 3,593.

Average Burden per Response: Approximately 37.7 hours.

Annual Burden Hours: 135,330.

Needs and Uses: This notice is for a new information collection for DFARS proposed rule 2017-D009, Only One Offer, that DoD published in the Federal Register at 83 FR 30656 on June 29, 2018. This information collection pertains to information that an offeror/contractor must submit to DoD if only one offer was received in response to a competitive solicitation, and the contracting officer must now request certified cost or pricing data, because of the revised standard for adequate price competition that is applicable to DoD, NASA, and the Coast Guard. This information collection requirement implements Cost or Pricing Data—Truth in negotiations, 10 U.S.C. 2306a, as amended by section 822 of the National Defense Authorization Act (NDAA) for Fiscal Year (FY) 2017 (Pub. L. 114-328). To the extent that 10 U.S.C. 23906a is the same as 41 U.S.C. chapter 35, information collection requirements are covered under OMB clearance 9000-0013. However, section 822 of the NDAA for FY 2017 changes the standard for adequate price competition for DoD, NASA, and the Coast Guard. This supporting statement addresses only the additional burden for DoD, as implemented in DFARS provisions 252.215-7008, Only One Offer; and 252.215-7010, Requirements for Certified Cost or Pricing Data and Data Other Than Certified Cost or Pricing Data. The information obtained through DFARS 252.215-7008, Only One Offer, and 252.215-7010, Requirements for Certified Cost or Pricing Data and Data Other Than Certified Cost or Pricing Data, is used to determine whether the offered price is fair and reasonable and to meet the statutory requirement for certified cost or pricing data.

Affected Public: Businesses or other for-profit and not-for- profit institutions.

Frequency: On occasion.

Respondent's Obligation: Required to obtain or maintain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

DoD Clearance Officer: Ms. Angela James.

Requests for copies of the information collection proposal should be sent to Ms. James at whs.mc-alex.esd.mbx.dd-dod-information-collections@mail.mil.

Jennifer Lee Hawes,
Regulatory Control Officer, Defense Acquisition Regulations System.

[FR Doc. 2019-12881 Filed 6-17-19; 8:45 am]

BILLING CODE 5001-06-P